FEDERAL COMMUNICATIONS COMMISSION

[GN Docket No. 18-122; GN Docket No. 21-320; DA 21-957; FRS 42245]

Wireless Telecommunications Bureau Opens a New Docket and Establishes the Process for C-Band Space Station Operator Phase I Certification of Accelerated Relocation

AGENCY: Federal Communications Commission.

ACTION: Notice.

SUMMARY: In this document, the Wireless Telecommunications Bureau (WTB or Bureau) prescribes the form by which eligible C-band space station operators should submit Phase I Certifications of Accelerated Relocation (Certifications) and establishes the process by which stakeholders can file related challenges to those Certifications. Expanding Flexible Use of the 3.7 to 4.2 GHz Band Report and Order, GN Docket No. 18-122, Report and Order and Order of Proposed Modification, FCC 20-22 (Mar. 3, 2020) (3.7 GHz Report and Order), required that, in order to be eligible for an Accelerated Relocation Payment (ARP), an eligible space station operator must file a Certification “demonstrating, in good faith, that it has completed the necessary clearing actions to satisfy each deadline.” An eligible space station operator is required to complete its obligations and then file a Certification by the applicable Accelerated Relocation Deadline, which for Phase I is December 5, 2021. Certifications should be filed both in GN Docket No. 18-122 and in GN Docket No. 21-320; stakeholders should file any related challenges in GN Docket No. 21-320.

DATES: Phase I Accelerated Relocation Certifications due December 5, 2021.

ADDRESSES: You may submit Certification, identified by GN Docket No. 18-122 and GN Docket No. 21-320, by any of the following methods:

Electronic Filers: Elections may be filed electronically using the internet by accessing the ECFS: http://apps.fcc.gov/ecfs/ in docket number GN 18-122 and GN 21-320.

Paper Filers: Parties who choose to file by paper must file an original and one copy of each filing.

Filings can be sent by commercial overnight courier, or by first-class or overnight U.S. Postal Service mail. All filings must be addressed to the Commission's Secretary, Office of the Secretary, Federal Communications Commission.

Commercial overnight mail (other than U.S. Postal Service Express Mail and Priority Mail) must be sent to 9050 Junction Drive, Annapolis Junction, MD 20701.U.S.

Postal Service first-class, Express, and Priority mail must be addressed to 45 L ST NE, Washington, DC 20554.

Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy

During the time the Commission's building is closed to the general public and until further notice, if more than one docket or rulemaking number appears in the caption of a proceeding, paper filers need not submit two additional copies for each additional docket or rulemaking number; an original and one copy are sufficient.

FOR FURTHER INFORMATION CONTACT: Susan Mort, Wireless Telecommunications Bureau, at Susan.Mort@fcc.gov or 202-418-2429.

SUPPLEMENTARY INFORMATION: This is a summary of the Public Notice, Wireless Telecommunications Bureau Opens A New Docket And Establishes The Process For C-Band Space Station Operator Phase I Certification Of Accelerated Relocation, GN Docket No. 18-122; GN Docket No. 21-320; DA 21-957 (Public Notice), released on August 4, 2021. The complete text of the Public Notice, is available on the Commission's website at https://www.fcc.gov/document/wtb-sets-c-band-phase-i-accelerated-relocation-certification-process or by using the search function for GN Docket No. 18-122 or GN Docket No. 21-320 on the Commission's ECFS web page at www.fcc.gov/ecfs.

Pursuant to §§ 1.415 and 1.419 of the Commission's rules, 47 CFR 1.415 and 1.419, interested parties may file elections on or before the date indicated on the first page of this document.

People with Disabilities: To request materials in accessible formats for people with disabilities (braille, large print, electronic files, audio format), send an email to fcc504@fcc.gov or call the Consumer & Governmental Affairs Bureau at 202-418-0530 (voice), 202-418-0432 (tty).

Ex Parte Rules: This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) list all persons attending or otherwise participating in the meeting at which the ex parte presentation was made; and (2) summarize all data presented and arguments made during the presentation. If the presentation consisted in whole or in part of the presentation of data or arguments already reflected in the presenters written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml., .ppt, searchable .pdf). Participants in this proceeding should familiarize themselves with the Commission's ex parte rules.

Synopsis: With this Public Notice, the Wireless Telecommunications Bureau (WTB or Bureau) prescribes the form by which eligible C-band space station operators should submit Phase I Certifications of Accelerated Relocation (Certifications) and establishes the process by which stakeholders can file related challenges to those Certifications. The 3.7 GHz Report and Order required that, in order to be eligible for an Accelerated Relocation Payment (ARP), an eligible space station operator must file a Certification “demonstrating, in good faith, that it has completed the necessary clearing actions to satisfy each deadline.” An eligible space station operator is required to complete its obligations and then file a Certification by the applicable Accelerated Relocation Deadline, which for Phase I is December 5, 2021. Certifications should be filed both in GN Docket No. 18-122 and in the new docket the Bureau opens here, GN Docket No. 21-320; stakeholders should file any related challenges in GN Docket No. 21-320.

In the 3.7 GHz Report and Order, the Commission adopted rules to make 280 megahertz of mid-band spectrum available for flexible use (plus a 20 megahertz guard band) throughout the contiguous United States by transitioning existing services out of the lower portion of the band and into the upper 200 megahertz of the C-band (i.e., 4.0-4.2 GHz). The 3.7 GHz Report and Order established that new 3.7 GHz Service licensees would reimburse the reasonable, actual relocation costs of eligible FSS space station operators, incumbent FSS earth station operators, and incumbent Fixed Service licensees (collectively, incumbents) to transition out of the band.

The 3.7 GHz Report and Order established a deadline of December 5, 2025, by which incumbent space station operators were to complete the transition of their operations to the upper 200 megahertz of the band, but it also provided an opportunity for accelerated clearing of the band by allowing eligible space station operators to voluntarily commit to relocate on a two-phased accelerated schedule, with a Phase I deadline of December 5, 2021, and a Phase II deadline of December 5, 2023. All five eligible space station operators elected accelerated relocation. By electing accelerated relocation, the eligible space station operators, among other things, have voluntarily committed to perform all the tasks necessary to enable any incumbent earth station that receives or sends C-band signals to a space station owned by that operator to maintain that functionality in the upper 200 megahertz of the band. The 3.7 GHz Report and Order stated that “[t]o the extent eligible space station operators can meet the Phase I and Phase II Accelerated Relocation Deadlines, they will be eligible to receive the accelerated relocation payments associated with those deadlines.” Once the eligible space station operator's Certification is validated, the ARPs will be disbursed by the Relocation Payment Clearinghouse (Clearinghouse).

The 3.7 GHz Report and Order specified that an “eligible space station operator's satisfaction of the Accelerated Relocation Deadlines will be determined by the timely filing of a Certification of Accelerated Relocation demonstrating, in good faith, that it has completed the necessary clearing actions to satisfy each deadline” and directed WTB to prescribe the form of such Certifications. Further, “the Bureau, Clearinghouse, and relevant stakeholders will have the opportunity to review the Certification of Accelerated Relocation and identify potential deficiencies.”

The 3.7 GHz Report and Order also directed that if “credible challenges as to the space station operator's satisfaction of the relevant deadline are made, the Bureau will issue a public notice identifying such challenges and will render a final decision as to the validity of the certification no later than 60 days from its filing.” Absent notice from WTB of deficiencies in the Certification within 30 days of its filing, the Certification will be deemed validated. Following validation, the Clearinghouse shall promptly notify overlay licensees, who must pay the ARP to the Clearinghouse within 60 days of the notice. The Clearinghouse must disburse the ARP to the eligible space station operator within seven (7) days of receipt. Should an eligible space station operator miss the Phase I or Phase II deadline, it may still receive a reduced, but non-zero, ARP if it otherwise meets the Certification requirements within six months after the relevant Accelerated Relocation Deadline.

The 3.7 GHz Report and Order directed WTB to: (1) “Prescribe the form” of Certifications and any challenges by relevant stakeholders; and (2) establish the process for how such challenges will impact the incremental decreases in the ARP. With this Public Notice, the Bureau establishes the requisite filing procedures and challenge process relating to the Phase I Accelerated Relocation Certification process.

Filing Procedures. To claim an ARP, eligible space station operators must submit Certifications to the Clearinghouse via any of the communication methods established between those parties. In addition, these space station operators must file their Certifications with WTB, which may be done electronically with a submission to the FCC's Electronic Comment Filing System (ECFS). While Certifications must be filed in GN Docket No. 18-122, WTB hereby creates new docket, GN Docket No. 21-320, in which Certifications should also be filed. In addition, any related challenges from stakeholders must be filed in this new docket. If a stakeholder seeks to challenge multiple eligible space station operator Certifications, each challenge must be filed separately with respect to each Certification in GN Docket No. 21-320.

Certification Content. To satisfy the Phase I deadline, the Certification must describe in detail each action that was taken by the eligible space station operator, including the date of completion, in a similar format and content to that operator's Transition Plan. This description should include (but is not limited to): The operations that were repacked to satisfy the Phase I deadline; The number of new satellites, if any, that the eligible space station operator launched, including the dates of launch, reaching final orbit, and start of operations; A description of how services were migrated to the upper portion of the band, including the pre- and post-transition frequencies that each customer occupied and now occupies; Any necessary technology upgrades or other solutions, such as video compression or modulation, that the eligible space station operator implemented, described on a per antenna and/or feed basis, as appropriate; The number and location of antennas and feeds that were transitioned to satisfy the Phase I deadline, including the actions taken (e.g., retuning and repointing) for each; The date of completion of the above items; A description of the steps that the eligible space station operator has taken to identify all associated earth stations, antennas, and feeds, and to ensure that they are all are transitioned as of the date of Certification; Details relating to any variances from the eligible space station operator's Transition Plan, such as antennas and feeds involving circumstances beyond the control of the eligible space station operator and therefore subject to a transition delay notice, and antennas and feeds that are otherwise pending removal from the most recent Incumbent Earth Station list or subject to an agreement regarding the transition between the eligible space station operator and the earth station operator.

The eligible space station operator must certify that it attests to the truthfulness of the above information and is making the Certification in good faith. Eligible space stations operators are reminded that Certifications are subject to section 1.17 of the Commission's rules and violators will be subject to potential enforcement action, including monetary penalties or actions affecting the eligible space station operator's market access authorization or status as a licensee. The Bureau will determine that a Certification has been made in bad faith if, for example, the certifying party makes a statement that is false and if it finds the party did not use due diligence in providing information that is correct and not misleading to the Commission, including taking appropriate affirmative steps to determine the truthfulness of what is being submitted. In cases where it is found that the ARP was disbursed based on a Certification that the eligible space station operator had filed in bad faith, the operator may be subject to the additional consequence of having to return some or all of the ARP, depending on the circumstances.

We note that subsequent to the filing of the Certification the Bureau may, based on the information filed by the eligible space station operator or contained in a challenge to that operator's Certification, request additional information from the operator. Because such information may prove necessary to determine whether the eligible space station operator completed the relocation by the relevant accelerated deadline, eligible space station operators must respond to such requests for information in a prompt and complete manner.

If, after the resolution of any credible challenges and the disbursement of the ARP, it is subsequently found, by the Relocation Coordinator, Clearinghouse, or WTB, that the eligible space station operator should have transitioned additional earth stations, antennas, or feeds that it did not account for in its Transition Plan and Certification(s), the eligible space station operator will be required to remediate such earth stations, antennas, or feeds in a prompt and effective manner.

Challenges. Challenges to a Certification must be filed in GN Docket No. 21-320 within ten (10) days after the Certification is published in ECFS and the eligible space station operators' replies must be filed in that docket within five (5) days. Pursuant to the 3.7 GHz Report and Order, WTB will announce by Public Notice whether credible challenges have been made within 30 days of the Certification's filing. After reviewing a Certification and any relevant challenges, WTB will issue one of two Public Notices. If there are no credible challenges, WTB will issue a Public Notice that lists the submitted challenges (if any), states that none constitutes a “credible challenge” to the validity of the Certification, and provides a brief explanation for the finding that said challenges are non-credible. If there is at least one credible challenge, WTB will issue a Public Notice announcing that one or more credible challenges have been made and instructing the Clearinghouse not to issue the ARP until WTB has made a final determination as to the validity of the challenge. WTB will issue a final determination on the challenge no later than sixty (60) days after the eligible space station operator files its Certification. If WTB ultimately finds the Certification was valid, disbursement of the Phase I ARP to the eligible space station operator will proceed as outlined above and in the 3.7 GHz Report and Order.

Amy Brett,
Acting Chief of Staff, Wireless Telecommunications Bureau.

[FR Doc. 2021-17180 Filed 8-10-21; 4:15 pm]

BILLING CODE 6712-01-P